ENVIRONMENTAL PROTECTION AGENCY

[EPA-HQ-SFUND-2004-0008; FRL-10626-01-OMS]

Agency Information Collection Activities; Submission to the Office of Management and Budget for Review and Approval; Comment Request; Consolidated Superfund Information Collection Request (Renewal)

AGENCY: Environmental Protection Agency (EPA).

ACTION: Notice.

SUMMARY: The Environmental Protection Agency (EPA) has submitted an information collection request (ICR), Consolidated Superfund Information Collection Request (EPA ICR Number 1487.14, OMB Control Number 2050-0179) to the Office of Management and Budget (OMB) for review and approval in accordance with the Paperwork Reduction Act. This is a proposed extension of the ICR, which is currently approved through March 31, 2023. Public comments were previously requested, via the Federal Register, on July 26, 2022 during a 60-day comment period. This notice allows for an additional 30 days for public comments.

DATES: Comments may be submitted on or before March 1, 2023.

ADDRESSES: Submit your comments, referencing Docket ID Number EPA-HQ-SFUND-2004-0008, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Yolanda Singer, Environmental Protection Agency, 1200 Pennsylvania Ave. NW, Washington, DC 20460; telephone number: (202) 566-1045; email address: singer.yolanda@epa.gov.

SUPPLEMENTARY INFORMATION: This is a proposed extension of the ICR, which is currently approved through March 31, 2023. An agency may not conduct or sponsor and a person is not required to respond to a collection of information unless it displays a currently valid OMB control number.

Public comments were previously requested via the Federal Register (87 FR 44388) on July 26, 2022 during a 60-day comment period. This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the following: (1) the collection of information under 40 CFR part 35, subpart O, which establishes the administrative requirements for cooperative agreements funded under the Comprehensive Environmental Response, Compensation, and Liability Act (CERCLA) for state, federally-recognized Indian tribal governments, and political subdivision response actions; (2) the application of the Hazard Ranking System (HRS) by states as outlined by CERCLA section 105 that amends the National Oil and Hazardous Substances Pollution Contingency Plan (NCP) to include criteria prioritizing releases throughout the United States before undertaking remedial action at uncontrolled hazardous waste sites; and (3) the remedial portion of the Superfund program as specified in CERCLA and the NCP. For cooperative agreements and Superfund state contracts for Superfund response actions, the information is collected from applicants and/or recipients of EPA assistance and is used to make awards, pay recipients, and collect information on how federal funds are being utilized. EPA requires this information to meet its federal stewardship responsibilities. Recipient responses are required to obtain a benefit (federal funds) under 2 CFR part 200, “Uniform Administrative Requirements, Cost Principles, and Audit Requirements for Federal Awards to Non-Federal Entities” and under 40 CFR part 35, “State and Local Assistance.” For the Superfund site evaluation and the Hazard Ranking System, the states will apply the HRS by identifying and classifying those releases or sites that warrant further investigation. The HRS score is crucial since it is the primary mechanism used to determine whether a site is eligible to be included on the National Priorities List (NPL). Only sites on the NPL are eligible for Superfund-financed remedial actions. For the NCP information collection, some community involvement activities covered by this ICR are not required at every site (e.g., Technical Assistance Grants) and depend very much on the community and the nature of the site and cleanup. All community activities seek to involve the public in the cleanup of the sites, gain the input of community members, and include the community's perspective on the potential future reuse of Superfund NPL sites. Community involvement activities can enhance the remedial process and increase community acceptance and the potential for productive and beneficial reuse of the sites.

Form numbers: 6200-11.

Respondents/affected entities: State, Local or Tribal Governments; U.S. Territories; Communities.

Respondent's obligation to respond: Required to obtain benefits (40 CFR part 35; CERCLA section 105, 40 CFR part 300).

Estimated number of respondents: 13,266 (total).

Frequency of response: Annually.

Total estimated burden: 175,583 hours (per year). Burden is defined at 5 CFR 1320.03(b).

Total estimated cost: $527,370 (per year), which includes $0 annualized capital or operation & maintenance costs.

Changes in the estimates: There is decrease of 20,974 hours in the total estimated respondent burden compared with the ICR currently approved by OMB. This decrease is due to an overall decrease in the number of respondents and responses for the Superfund Site Evaluation and Hazard Ranking System, Cooperative Agreements and Superfund State Contracts for Superfund Response Actions, and for the National Oil and Hazardous Substances Pollution Contingency Plan.

Courtney Kerwin,
Director, Regulatory Support Division.

[FR Doc. 2023-01786 Filed 1-27-23; 8:45 am]

BILLING CODE 6560-50-P